DEPARTMENT OF THE INTERIOR

Fish and Wildlife Service

50 CFR Part 32

RIN 1018-AT40

2004-2005 Refuge-Specific Hunting and Sport Fishing Regulations; Correction

AGENCY: Fish and Wildlife Service, Interior.

ACTION: Correction to proposed regulations.

SUMMARY: This document contains corrections to the proposed regulations which were published June 30, 2004 (69 FR 39552). The proposed regulations related to the addition of 10 refuges and wetland management districts to the list of areas open for hunting and/or sport fishing programs and increase the activities available at 7 other refuges. We also develop pertinent refuge-specific regulations for those activities and amend certain regulations on other refuges that pertain to migratory game bird hunting, upland game hunting, big game hunting, and sport fishing for the 2004-2005 season.

FOR FURTHER INFORMATION CONTACT: Leslie Marler, (703) 358-2397.

DATES: We must receive your comments on or before July 30, 2004.

SUPPLEMENTARY INFORMATION:

Background

We issue refuge-specific regulations when we open wildlife refuges to migratory game bird hunting, upland game hunting, big game hunting, or sport fishing. These regulations list the wildlife species that you may hunt or fish, season, bag or creel limits, methods of hunting or sport fishing, descriptions of areas open to hunting or sport fishing, and other provisions as appropriate. The regulations that are the subject of these corrections increase opportunity to hunt migratory game birds at two refuges in the State of Tennessee.

Need for Correction

We provided information in the SUPPLEMENTARY INFORMATION section indicating that two refuges (Cross Creeks and Tennessee National Wildlife Refuges) in the State of Tennessee were opening to migratory game bird hunting for the first time but the amendatory text under § 32.62 for those two refuges incorrectly reflected that migratory bird hunting was reserved.

Correction of Publication

Accordingly, the publication on June 30, 2004, of the proposed regulations is corrected as follows:

§ 32.62 [Corrected]

1. The listing for Cross Creeks National Wildlife Refuge on page 39661 in the first column in § 32.62, under A. Migratory Game Bird Hunting [Reserved], is corrected as follows:

Cross Creeks National Wildlife Refuge

A. Migratory Game Bird Hunting. We allow hunting of Canada geese (September season only) on designated areas of the refuge in accordance with State regulations subject to the following conditions:

1. The refuge is a day-use area only, with the exception of legal hunting/fishing activities.

2. You must possess and carry a valid refuge permit while hunting on the refuge.

3. We set and publish season dates and bag limits annually in the refuge Public Use Regulations available at the refuge office.

4. We prohibit hunting within 50 yards (45 m) of any building, public use road, or boat launching ramp.

5. We allow hunters access to the refuge from 1½ hours before legal sunrise to 1½ hours after legal sunset.

6. We prohibit the use of motorized off-road vehicles (e.g., ATVs) on the refuge.

7. We prohibit the use of horses or other animal conveyances on refuge hunts.

8. Youth hunters under age 16 must remain in sight and normal voice contact with an adult hunter age 21 or older. One adult hunter may supervise no more than two youth hunters.

9. We allow the use of dogs to retrieve geese.

10. You may use only portable blinds, and you must remove all boats, blinds, and decoys from the refuge at the end of each day.

* * * * *

2. The listing for Tennessee National Wildlife Refuge on page 39662 in the third column in § 32.62, under A. Migratory Game Bird Hunting [Reserved], is corrected as follows:

Tennessee National Wildlife Refuge

A. Migratory Game Bird Hunting. We allow hunting of Canada geese (September season only) on designated areas of the refuge in accordance with State regulations and subject to the following conditions:

1. The refuge is a day-use area only, with the exception of legal hunting/fishing activities.

2. We require a refuge hunt permit for all hunters age 16 and older. We charge a fee for all hunt permits. You must possess and carry a valid refuge permit while hunting on the refuge.

3. We set and publish season dates and bag limits annually in the refuge Public Use Regulations available at the refuge office.

4. We prohibit hunting within 50 yards (45 m) of any building, public use road, or boat launching ramp.

5. We allow access for goose hunting on the refuge 1½ hours before legal sunrise until 1½ hours after legal sunset.

6. We prohibit the use of motorized off-road vehicles (e.g., ATVs) on the refuge.

7. We prohibit the use of horses or other animal conveyances on refuge hunts.

8. Youth hunters under age 16 must remain in sight and normal voice contact with adult hunters age 21 or older. One adult hunter may supervise no more than two youth hunters.

9. We allow the use of dogs to retrieve geese.

10. You may use only portable blinds, and you must remove all boats, blinds, and decoys from the refuge at the end of each day.

* * * * *

Dated: July 8, 2004.
Sara Prigan,
Service Federal Register Liaison.

[FR Doc. 04-15860 Filed 7-13-04; 8:45 am]

BILLING CODE 4310-55-P